DEPARTMENT OF LABOR

Employment and Training Administration

[TA-W-72,319]

General Motors Company Formerly Known as General Motors Corporation, Willow Run Transmission Plant Including On-Site Leased Workers From Aerotek; Ypsilanti, MI; Amended Certification Regarding Eligibility To Apply for Worker Adjustment Assistance

In accordance with Section 223 of the Trade Act of 1974, as amended (“Act”), 19 U.S.C. 2273, the Department of Labor issued a Certification of Eligibility to Apply for Worker Adjustment Assistance on July 7, 2010, applicable to workers of General Motors Company, formerly known as General Motors Corporation, Willow Run Transmission Plant, Ypsilanti, Michigan. The notice was published in the Federal Register on July 26, 2010. (75 FR 43558).

At the request of the state, the Department reviewed the certification for workers of the subject firm. The workers are engaged in the production of automotive transmissions and transmission components.

The company reports that workers leased from Aerotek, were employed on-site at the Ypsilanti, Michigan location of General Motors Company, formerly known as General Motors Corporation, Willow Run Transmission Plant. The Department has determined that these workers were sufficiently under the control of the subject firm to be considered leased workers.

Based on these findings, the Department is amending this certification to include workers leased from Aerotek, working on-site at the Ypsilanti, Michigan location of General Motors Company, formerly known as General Motors Corporation, Willow Run Transmission Plant.

The amended notice applicable to TA-W-72,319 is hereby issued as follows:

All workers from General Motors Company, formerly known as General Motors Corporation, Willow Run Transmission Plant, including on-site leased workers from Aerotek, Ypsilanti, Michigan, who became totally or partially separated from employment on or after September 14, 2008, through July 7, 2012, and all workers in the group threatened with total or partial separation from employment on the date of certification through two years from the date of certification, are eligible to apply for adjustment assistance under Chapter 2 of Title II of the Trade Act of 1974, as amended.

Signed at Washington, DC, this 30th day of July 2010.
Michael W. Jaffe,
Certifying Officer, Division of Trade Adjustment Assistance.

[FR Doc. 2010-20029 Filed 8-12-10; 8:45 am]

BILLING CODE 4510-FN-P